DEPARTMENT OF THE INTERIOR

Bureau of Land Management

[OR-958-6333-ET, GP0-0193; OR-5565]

Notice of Proposed Withdrawal and Public Meeting, Oregon

AGENCY: Bureau of Land Management, Interior.

ACTION: Notice.

SUMMARY: The Bureau of Land Management proposes to withdraw 17,056.10 acres of public lands from settlement, sale, location, or entry under the general land laws including the mining laws, but not from leasing under the mineral leasing laws, to protect and preserve the geological and biological resources of the Diamond Craters Outstanding Natural Area and Area of Critical Environmental Concern. This notice identifies the time, date, and place of a public meeting to discuss issues relative to the proposed withdrawal.

DATES: Comments must be received by July 25, 2000.

ADDRESSES: Comments should be sent to the Burns District Manager, Burns District Office, HC 74-12533 Hwy 20 West, Hines, Oregon 97738.

FOR FURTHER INFORMATION CONTACT: Skip Renchler, BLM, Burns District Office, 514-573-4443.

SUPPLEMENTARY INFORMATION: The Diamond Craters Outstanding Natural Area and Area of Critical Environmental Concern was withdrawn for a 20 year period by Public Land Order No. 5822 on January 22, 1981, as described in the Federal Register Volume 46, page 6947. The Bureau of Land Management is requesting a new withdrawal for the area to continue the protection of the Diamond Crater Area. Notice is hereby given that a public meeting will be held at the Burns District Office Conference Room located at HC 74-12533 Hwy 20 West, Hines, Oregon 97738. The public is invited to an open house to discuss issues and concerns relative to the proposed withdrawal. The doors will be open to the public from 6:00 P.M. to 8:00 P.M., May 17, 2000. Written comments will also be considered if filed within 90 days from the date of this publication. Comments may be addressed to the District Manager, Burns District at the address above.

Dated: April 20, 2000.
Robert D. DeViney, Jr.,
Chief, Branch Realty and Records Services.

[FR Doc. 00-10431 Filed 4-25-00; 8:45 am]

BILLING CODE 4310-33-P